DEPARTMENT OF TRANSPORTATION

Federal Motor Carrier Safety Administration

[Docket No. FMCSA-2005-22417]

Notice of Intent To Survey Medical Examiners Who Certify the Physical Qualifications of Commercial Motor Vehicle Drivers

AGENCY: Federal Motor Carrier Safety Administration (FMCSA), DOT.

ACTION: Notice and request for comments.

SUMMARY: In accordance with the requirement of Section 3506(c)(2)(A) of the Paperwork Reduction Act of 1995, this notice announces the intention of FMCSA to request approval from the Office of Management and Budget (OMB) for an information collection associated with the agency's medical examiner Role Delineation Study. This information collection would gather data on the role of medical examiners and provide medical examiners (medical doctors (MDs), doctors of osteopathy (DOs), doctors of chiropractic (DCs), physician assistants (PAs) and advance practice nurses (APNs)) who perform FMCSA physical examinations of commercial motor vehicle (CMV) drivers a means of participating in an assessment of the knowledge, skills, and abilities necessary to effectively determine if a CMV driver's health meets Federal physical qualifications standards. The data obtained from the Role Delineation Study and other sources would be used to support the development of the National Registry of Certified Medical Examiners (NRCME) program.

DATES: Comments must be submitted on or before November 28, 2005.

ADDRESSES: You may submit comments identified by Docket Number FMCSA-2005-22417 by any of the following methods:

• Web site: http://dms.dot.gov.

Follow the instructions for submitting comments on the DOT electronic docket site.

• Fax: 1-202-493-2251.

• Mail: Docket Management System (DMS) Facility, U.S. Department of Transportation, 400 Seventh Street, SW., Nassif Building, Room PL-401, Washington, DC 20590-0001.

• Hand Delivery: Room PL-401 on plaza level of the Nassif Building, 400 Seventh Street, SW., Washington, DC, between 9 a.m. and 5 p.m., Monday through Friday, except on Federal holidays.

• Federal eRulemaking Portal: Go to http://www.regulations.gov. Follow the online instructions for submitting comments.

Instructions: All submissions must include the agency name and docket number of the notice. Note that all comments received will be posted without change to http://dms.dot.gov including any personal information provided.

Docket: For access to the docket to read background documents or comments received, go to http://dms.dot.gov at any time or to Room PL-401 on the plaza level of the Nassif Building, 400 Seventh Street, SW., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000, at 65 FR 19477 or you may visit http://dms.dot.gov.

FOR FURTHER INFORMATION CONTACT: For information, contact Dr. Mary D. Gunnels, Office of Bus and Truck Standards and Operations, Physical Qualifications Division, 202-366-4001. Office hours are from 8:30 a.m. to 5 p.m., Eastern time, Monday through Friday, except Federal holidays.

SUPPLEMENTARY INFORMATION:

Title: Notice of Intent to Survey Medical Examiners Who Certify the Physical Qualifications of Commercial Motor Vehicle Drivers.

Background

Section 4116 of The Safe, Accountable, Flexible, and Efficient Transportation Equity Act: A Legacy for Users (SAFETEA-LU) (Public Law 109-59) requires the Secretary of Transportation “to establish and maintain a current national registry of medical examiners who are qualified to perform examinations and issue medical certificates.” To implement this requirement, FMCSA is developing the National Registry program that was announced at a June 22, 2005, Public Meeting in Arlington, Virginia (70 FR 28596; May 18, 2005). The NRCME will be comprised, in part, of a training and testing program that will include a database of medical examiners who conduct medical examinations of interstate CMV drivers and effectively determine their physical qualifications to operate such vehicles in interstate commerce as defined in 49 CFR 391.41.

Once the program is implemented, FMCSA would only accept medical examinations conducted by NRCME medical examiners. The NRCME program would require training using a standardized curriculum, a certification examination, and procedures to maintain the quality of the program in accordance with national accreditation standards. The Role Delineation Study is a critical component of developing a standardized training curriculum and a valid, reliable and fair certification examination. The goal of the Role Delineation Study is to inform the policies that guide the NRCME program in accordance with national accreditation standards. The study is an assessment of the knowledge, skills, and abilities necessary for a medical examiner to perform competently. The Role Delineation Study incorporates the following components: (1) Develop a task list through a variety of techniques; (2) measure agreement on each task in the list by a representative sample of medical examiners; (3) disqualify tasks lacking sufficient agreement; (4) identify critical tasks; and (5) create specifications for an examination. The information derived from the Role Delineation Study is necessary to form the basis of a professionally and legally sound quality management system that supports a national accreditation of the certification program. A survey of medical examiners is one of the techniques for gathering data from FMCSA medical examiners for the Role Delineation Study.

Respondents: Medical examiners (MDs, DOs, DCs, PAs, and APNs) who are currently performing FMCSA physical examinations of CMV drivers.

Estimated Average Burden per Response: The estimated average burden per response for each survey is 30 to 60 minutes.

Estimated Total Annual Burden: The estimated total annual burden is 500 to 1000 hours for the information collection based on the following requirement for statistical significance: 200 responses for each of the five medical examiner professional categories; [1000 respondents per survey × 30/60 minutes per respondent = 500 to 1000 hours].

Frequency: Data collection in support of program content validation is typically done every few years because practice standards change and evolve.

Public Comments Invited

Interested parties are invited to send comments regarding any aspect of this information collection, including but not limited to: (1) The necessity and utility of the information collection for the proper performance of the functions of FMCSA and specifically the conduct of the Role Delineation Study; (2) the accuracy of the estimated burden; (3) ways to enhance the quality, utility, and clarity of the collected information; and (4) ways to minimize the collection burden without reducing the quality of the collected information. Comments submitted in response to this notice will be summarized and/or included in the request for OMB's clearance for this information collection.

Issued on: September 22, 2005.
Rose A. McMurray,
Associate Administrator for Policy and Program Development.

[FR Doc. 05-19460 Filed 9-28-05; 8:45 am]

BILLING CODE 4910-EX-P